DEPARTMENT OF THE INTERIOR

Fish and Wildlife Service

[FWS-R8-ES-2019-N079; FXES11140800000-190-FF08ECAR00]

Receipt of Incidental Take Permit Application and Proposed Habitat Conservation Plan for the San Bernardino Kangaroo Rat, City of Highland, San Bernardino County, CA; Categorical Exclusion

AGENCY: Fish and Wildlife Service, Interior.

ACTION: Notice of availability; request for comments and information.

SUMMARY: We, the Fish and Wildlife Service (Service), announce receipt of an application from the City of Highland (applicant) for an incidental take permit (ITP) under the Endangered Species Act. The applicant requests the ITP to take the federally endangered San Bernardino kangaroo rat incidental to construction in San Bernardino County, California. We request public comment on the application, which includes the applicant's proposed habitat conservation plan (HCP) and the Service's preliminary determination that this HCP qualifies as “low-effect,” categorically excluded under the National Environmental Policy Act. To make this determination, we used our environmental action statement and low-effect screening form, which is also available for review.

DATES: We must receive your written comments on or before October 3, 2019.

ADDRESSES:

Obtaining Documents: You may obtain copies of the documents by the following methods:

• Internet: https://www.fws.gov/carlsbad/HCPs/HCP_Docs.html.

• Telephone: 760-322-2070.

• U.S. Mail: Attn: Assistant Field Supervisor, Palm Springs Fish and Wildlife Office, U.S. Fish and Wildlife Service, 777 East Tahquitz Canyon Way, Suite 208, Palm Springs, CA 92262.

• In-Person: You may examine the documents by appointment during regular business hours at the Palm Springs Fish and Wildlife Office (address above). Please call to make an appointment (see FOR FURTHER INFORMATION CONTACT).

Submitting Comments: If you wish to submit comments on any of the documents, you may do so in writing by any of the following methods:

• Online: https://www.fws.gov/carlsbad/HCPs/HCP_Docs.html.

• Email: fw8cfwocomments@fws.gov.

• U.S. mail or hand-delivery: Palm Springs Fish and Wildlife Office (address above).

• Fax: 760-322-4648.

FOR FURTHER INFORMATION CONTACT: Karin Cleary-Rose, by telephone at 760-322-2070, ext. 406, via email at karin_cleary-rose@fws.gov, or via the Federal Relay Service at 800-877-8339.

SUPPLEMENTARY INFORMATION: We, the Fish and Wildlife Service (Service), announce receipt of an application from the City of Highland, California (applicant), for an incidental take permit (ITP) under the Endangered Species Act of 1973, as amended (ESA; 16 U.S.C. 1531 et seq.). The applicant requests an ITP to take the federally endangered San Bernardino kangaroo rat (Dipodomys merriami parvus) incidental to the construction of a storm drain outlet (project) in San Bernardino County, California. We request public comment on the application, which includes the applicant's proposed habitat conservation plan (HCP) and the Service's preliminary determination that the HCP qualifies as “low-effect,” categorically excluded under the National Environmental Policy Act (NEPA; 42 U.S.C. 4321 et seq.). To make this determination, we used our environmental action statement and low-effect screening form, which is also available for public review.

Project

The applicant requests a 5-year ITP to take the San Bernardino kangaroo rat (SBKR) incidental to the temporary impact of 0.10 acres (ac) of occupied SBKR foraging and sheltering habitat for the construction of storm drain outlet located on a 21-ac parcel, Assessor's Parcel Numbers 1201-321-36 and 1201-311-01, in Sections 4, Township 1 South, Range 3 West, San Bernardino County, California. The applicant proposes to mitigate for take of the SBKR through (1) relocation of all SBKR captured on the project area by live-trapping and release into pre-established artificial burrows immediately outside of the project area and (2) restoration and/or enhancement of 0.14 ac of SBKR habitat on the project site.

Public Availability of Comments

Before including your address, phone number, email address, or other personal identifying information in your comment, be aware that your entire comment—including your personal identifying information—may be made available to the public. While you may request that we withhold your personal identifying information from public review, we cannot guarantee that we will be able to do so.

Our Preliminary Determination

The Service has made a preliminary determination that the applicant's project, including land clearing, infrastructure building, and the proposed mitigation and minimization measures, would individually and cumulatively have a minor or negligible effect on the SBKR and the environment. Therefore, we have preliminarily concluded that the ITP for this project would qualify for categorical exclusion and the HCP is low effect under our NEPA regulations at 43 CFR 46.205 and 46. 210. A low-effect HCP is one that would result in (1) minor or negligible effects on federally listed, proposed, and candidate species and their habitats; (2) minor or negligible effects on other environmental values or resources; and (3) impacts that, when considered together with the impacts of other past, present, and reasonably foreseeable similarly situated projects, would not over time result in significant cumulative effects to environmental values or resources.

Next Steps

The Service will evaluate the application and the comments received to determine whether to issue the requested permit. We will also conduct an intra-Service consultation pursuant to section 7 of the ESA to evaluate the effects of the proposed take. After considering the above findings, we will determine whether the permit issuance criteria of section 10(a)(1)(B) of the ESA have been met. If met, the Service will issue the permit to the City of Highland.

Authority

The Service provides this notice under section 10(c) (16 U.S.C. 1539(c)) of the ESA and NEPA regulation 40 CFR 1506.6.

Scott Sobiech,
Acting Field Supervisor, Carlsbad Field Office, Pacific Southwest Region.

[FR Doc. 2019-18908 Filed 8-30-19; 8:45 am]

BILLING CODE 4333-15-P